DEPARTMENT OF ENERGY

Federal Energy Regulatory Commission

[ Docket No. EL13-13-000]

ITC Midwest, LLC v. American Transmission Company, LLC; Notice of Complaint

Take notice that on October 24, 2012, pursuant to sections 206, 306, and 309 of the Federal Power Act, 16 U.S.C. 824(e), 825(e), 825(h) (2006), and Rule 206 of the Federal Energy Regulatory Commission's (Commission) Rules of Practice and Procedure, 18 CFR 206 (2012), ITC Midwest, LLC (Complainant) filed a formal complaint against American Transmission Company (Respondent), alleging that the Respondent has not complied with the express terms and conditions of (a) the Midwest Independent Transmission System Operator, Inc.'s (MISO) Open Access Transmission Energy and Operating Reserve Markets Tariff; (b) the Agreement of the Transmission Facilities Owners to Organize the Midwest Independent Transmission System Operator, Inc., a Delaware Non-Stock Corporation; and (c) the MISO designations for MVP Project 5 (with the designation 3127), the Dubuque-Cardinal Line as specified in the 2011 MISO Transmission Expansion Plan Appendix A.

The Complainant certifies that copies of the complaint were served on the contacts for the Respondent as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on November 14, 2012.

Dated: October 26, 2012.
Nathaniel J. Davis, Sr.,
Deputy Secretary.

[FR Doc. 2012-26924 Filed 11-2-12; 8:45 am]

BILLING CODE 6717-01-P